DEPARTMENT OF THE INTERIOR

National Park Service

Meeting Announcement

AGENCY: National Park Service, Interior.

ACTION: Announcement of Wrangell-St. Elias National Park Subsistence Resource Commission (SRC) meeting.

SUMMARY: Notice is hereby given in accordance with the Federal Advisory Committee Act that a meeting of the Wrangell-St. Elias National Park Subsistence Resource Commissions will be held at Copper Center, Alaska. The purpose of the meeting will be to continue work on currently authorized and proposed National Park Service subsistence hunting program recommendations including other related subsistence management issues. The meeting will be open to the public. Any person may file with the Commission a written statement concerning the matters to be discussed.

The Subsistence Resource Commission is authorized under Title VIII, Section 808, of the Alaska National Interest Lands Conservation Act, Public Law 96-487, and operates in accordance with the provisions of the Federal Advisory Committee Act.

DATES: The meeting dates are:

1. September 23, 2004, 9 a.m. to 5 p.m., Wrangell-St. Elias National Park and Preserve Theater (Mile 106.8 Richardson Highway), Copper Center, Alaska.

2. September 24, 2004, 9 a.m. to 5 p.m. (or until the completion of business), Wrangell-St. Elias National Park and Preserve Theater, Copper Center, Alaska.

FOR FURTHER INFORMATION CONTACT: Hunter Sharp, Acting Superintendent and Barbara Cellarius, Subsistence Coordinator, at Wrangell-St. Elias National Park and Preserve, P.O. Box 439, Copper Center, AK 99573, telephone (907) 822-5234.

SUPPLEMENTARY INFORMATION: Notice of this meeting will be published in local newspapers and announced on local radio stations prior to the meeting dates. Locations and dates may need to be changed based on weather or local circumstances.

The agenda for the meeting is as follows:

(1) Call to order (SRC Chair).

(2) SRC roll call and confirmation of quorum.

(3) Introduction of Commission members, staff, and guests.

(4) Review and adoption of agenda.

(5) Review and approval of minutes from February 11-12, 2004 meeting.

(6) Superintendent's welcome and review commission purpose.

(7) Status of Commission membership.

(8) Superintendent's report.

(9) Wrangell-St. Elias NP&P staff report.

(10) Old business.

(11) New business.

(a) Review new proposals to change fisheries regulations.

(b) Develop proposals to change federal subsistence wildlife regulations for 2005-06.

(12) Public and agency comments.

(13) Work session (comment on issues, prepare letters).

(14) Set tentative time and place of next SRC meeting.

(15) Adjournment.

Draft minutes of the meeting will be available for public inspection approximately six weeks after the meeting from the Superintendent, Wrangell-St. Elias National Park and Preserve, at the above address.

Dated: June 18, 2004.
Victor Knox,
Acting Regional Director, Alaska Region.

[FR Doc. 04-16152 Filed 7-15-04; 8:45 am]

BILLING CODE 4312-HC-P